DEPARTMENT OF TRANSPORTATION

Federal Aviation Administration

14 CFR Part 39

[Docket No. FAA-2017-0639; Product Identifier 2017-CE-016-AD; Amendment 39-19052; AD 2017-19-22]

RIN 2120-AA64

Airworthiness Directives; British Aerospace Regional Aircraft Airplanes

AGENCY: Federal Aviation Administration (FAA), Department of Transportation (DOT).

ACTION: Final rule.

SUMMARY: We are superseding Airworthiness Directive (AD) 2014-07-09 for British Aerospace Regional Aircraft Jetstream Series 3101 and Jetstream Model 3201 airplanes. This AD results from mandatory continuing airworthiness information (MCAI) originated by an aviation authority of another country to identify and correct an unsafe condition on an aviation product. The MCAI describes the unsafe condition as both the need for newly added inspections for corrosion, which includes the door hinges/supporting structure and attachment bolts for the main spar joint and engine support, and inadequate existing instructions for inspection for corrosion for several areas including the rudder hinge location on the vertical stabilizer. We are issuing this AD to require actions to address the unsafe condition on these products.

DATES: This AD is effective October 30, 2017.

The Director of the Federal Register approved the incorporation by reference of certain publications listed in the AD as of October 30, 2017.

ADDRESSES: You may examine the AD docket on the Internet at http://www.regulations.gov by searching for and locating Docket No. FAA-2017-0395; or in person at Document Management Facility, U.S. Department of Transportation, Docket Operations, M-30, West Building Ground Floor, Room W12-140, 1200 New Jersey Avenue SE., Washington, DC 20590.

For service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may view this referenced service information at the FAA, Policy and Innovation Division, 901 Locust, Kansas City, Missouri 64106. For information on the availability of this material at the FAA, call (816) 329-4148. It is also available on the Internet at http://www.regulations.gov by searching for Docket No. FAA-2017-0639.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

We issued AD 2014-07-09, Amendment 39-17823 (79 FR 22367; April 22, 2014) (“AD 2014-07-09”). That AD required actions intended to address an unsafe condition on British Aerospace Regional Aircraft Model Jetstream Series 3101 and Jetstream Model 3201 airplanes and was based on mandatory continuing airworthiness information (MCAI) originated by an aviation authority of another country.

Since we issued AD 2014-07-09, more extensive reports of corrosion have been received, resulting in the need to inspect additional areas.

We issued a notice of proposed rulemaking (NPRM) (82 FR 28592; June 23, 2017) to amend 14 CFR part 39 by adding an AD that would apply to British Aerospace Regional Aircraft Model Jetstream Series 3101 and Jetstream Model 3201 airplanes and supersede AD 2014-07-09.

The European Aviation Safety Agency (EASA), which is the Technical Agent for the Member States of the European Community, has issued EASA AD No.: 2017-0073, dated April 27, 2017 (referred to after this as “the MCAI”), to correct an unsafe condition for the specified products. The MCAI states:

Maintenance instructions for BAE Jetstream 3100 and 3200 aeroplanes, which are approved by EASA, are currently defined and published in the BAE Systems (Operations) Ltd Jetstream Series 3100 & 3200 Corrosion Prevention and Control Programme (CPCP) document, JS/CPCP/01. These instructions have been identified as mandatory for continued airworthiness.

Failure to accomplish these instructions could result in an unsafe condition.

EASA issued AD 2012-0036 to require operators to comply with the inspection instructions as contained in the CPCP at Revision 6.

Since that AD was issued, reports have been received of finding extensive corrosion. While affected areas are covered by an existing zonal inspection, it has been determined that this inspection is inadequate to identify the corrosion in those areas. Consequently, new inspection items 52-11-002 C1, 200/EX/01 C2, 500/IN/02 C1, 600/IN/04 C1 and 700/IN/04 C1 have been added to the CPCP at Revision 8.

For the reason described above, this [EASA] AD retains the requirements of EASA AD 2012-0036, which is superseded, and requires accomplishment of the actions specified in BAE Systems (Operations) Ltd Jetstream Series 3100 & 3200 CPCP, JS/CPCP/01, Revision 8 (hereafter referred to as `the CPCP' in this AD).

The MCAI can be found in the AD docket on the Internet at: https://www.regulations.gov/document?D=FAA-2017-0639-0002.

Comments

We gave the public the opportunity to participate in developing this AD. The following presents the comment received on the NPRM and the FAA's response to the comment.

Summary Clarification

Kenneth MacKinnon of BAE Systems Regional Aircraft stated that the Summary and Reason, paragraph (e) of this AD, both list corrosion issues that were introduced at Revision 6, which he assumes was mandated by AD 2014-07-09. He assumes this is an error and that both sections should summarize the changes introduced at Revisions 7 and 8, as detailed in the BAE SYSTEMS Certification Plans AWR/768/J3I and AWR/815/J31 respectively. BAE wants the summary to better reflect the changes since FAA AD 2014-07-09.

We partially agree with this comment. The Summary and Reason, paragraph (e) of this AD, could contain language to better clarify the unsafe condition. We disagree with including all of the details in this AD because we matched the intent of the EASA AD, and the details provided are included in the service documents. We have added language to the Summary and Reason, paragraph (e) of this AD, to clarify the unsafe condition.

Conclusion

We reviewed the relevant data, considered the comments received, and determined that air safety and the public interest require adopting this AD with the change described previously. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed British Aerospace Jetstream Series 3100 & 3200 Corrosion Prevention and Control Programme, Manual Ref: JS/CPCP/01, Revision 8, dated October 15, 2016. The service information describes procedures for a comprehensive corrosion prevention and control program. This service information is reasonably available because the interested parties have access to it through their normal course of business or by the means identified in the ADDRESSES section of this document.

Costs of Compliance

We estimate that this AD will affect 42 products of U.S. registry. We also estimate that it would take about 100 work-hours per product to comply with the basic requirements of this AD. The average labor rate is $85 per work-hour.

Based on these figures, we estimate the cost of this AD on U.S. operators to be $357,000, or $8,500 per product.

The scope of damage found in the required inspection could vary significantly from airplane to airplane. We have no way of determining how much damage may be found on each airplane or the cost to repair damaged parts on each airplane or the number of airplanes that may require repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2017-0639; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17823 (79 FR 22367; April 22, 2014), and adding the following new AD:

2017-19-22 British Aerospace Regional Aircraft: Amendment 39-19052; Docket No. FAA-2017-0639; Product Identifier 2017-CE-016-AD.

(a) Effective Date

This airworthiness directive (AD) becomes effective October 30, 2017.

(b) Affected ADs

This AD replaces AD 2014-07-09, Amendment 39-17823 (79 FR 22367; April 22, 2014) (“2014-07-09”).

(c) Applicability

This AD applies to British Aerospace Regional Aircraft Jetstream Series 3101 and Jetstream Model 3201 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as both the need for newly added inspections for corrosion, which includes the door hinges/supporting structure and attachment bolts for the main spar joint and engine support, and inadequate existing instructions for inspection for corrosion for several areas including the rudder hinge location on the vertical stabilizer. We are issuing this AD to require actions to address the unsafe condition on these products as a result of possible corrosion on the rudder upper hinge bracket and internal wing, areas of the passenger/crew door hinges and supporting structure, the main spar joint, and the engine support attachment bolts, which could lead to reduced structural integrity with consequent loss of control.

(f) Actions and Compliance

Comply with paragraphs (f)(1) through (3) of this AD within the compliance times specified, unless already done:

(1) Before further flight after October 30, 2017 (the effective date of this AD), incorporate BAE Systems (Operations) Limited Jetstream Series 3100 & 3200 Corrosion Prevention and Control Programme, Manual Ref. JS/CPCP/01, Revision 8, dated October 15, 2016, into the Limitations of your FAA-approved maintenance program (instructions for continued airworthiness) on the basis of which the operator or the owner ensures the continuing airworthiness of each operated airplane, as applicable to the airplane model.

(2) Do all tasks in the BAE Systems (Operations) Limited Jetstream Series 3100 & 3200 Corrosion Prevention and Control Programme, Manual Ref. JS/CPCP/01, Revision 8, dated October 15, 2016, at the compliance times specified in the manual, or within the next 12 months after October 30, 2017 (the effective date of this AD), whichever occurs later; except for the following tasks, which must be done within 12 months after October 30, 2017 (the effective date of this AD): 52-11-002 C1, 200/EX/01 C2, 500/IN/02 C1, 600/IN/04 C1, and 700/IN/04 C1.

(3) If any discrepancy, particularly corrosion, is found during any inspections or tasks required by paragraphs (f)(1) or (2) of this AD, within the compliance time specified, repair or replace, as applicable, all damaged structural parts and components and do the maintenance procedures for corrective action following BAE Systems (Operations) Limited Jetstream Series 3100 & 3200 Corrosion Prevention and Control Programme, Manual Ref. JS/CPCP/01, Revision 8, dated October 15, 2016. If no compliance time is defined, do the applicable corrective action before further flight.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch; or the European Aviation Safety Agency (EASA), or BAE Systems (Operations) Limited's EASA DOA. If approved by the DOA, the approval must include the DOA-authorized signature.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency 2017-0073, dated April 27, 2017. The MCAI can be found in the AD docket on the Internet at: https://www.regulations.gov/document?D=FAA-2017-0639-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) BAE Systems (Operations) Limited Jetstream Series 3100 & 3200 Corrosion Prevention and Control Programme, Manual Ref. JS/CPCP/01, Revision 8, dated October 15, 2016.

(ii) Reserved.

(3) For British Aerospace Jetstream Series 3100 and 3200 service information related to this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/.

(4) You may review copies of the referenced service information at the FAA, Policy and Innovation Division, 901 Locust, Kansas City, Missouri 64106. For information on the availability of this material at the FAA, call (816) 329-4148. In addition, you can access this service information on the Internet at http://www.regulations.gov by searching for and locating Docket No. FAA-2017-0639.

(5) You may view this service information that is incorporated by reference at the National Archives and Records Administration (NARA). For information on the availability of this material at NARA, call 202-741-6030, or go to: http://www.archives.gov/federal-register/cfr/ibr-locations.html.

Issued in Kansas City, Missouri, on September 14, 2017.
Pat Mullen,
Acting Deputy Director, Policy & Innovation Division, Aircraft Certification Service.

[FR Doc. 2017-20047 Filed 9-22-17; 8:45 am]

BILLING CODE 4910-13-P